DEPARTMENT OF AGRICULTURE

U.S. Codex Office

Codex Alimentarius Commission: Meeting of the Codex Committee on Food Hygiene (CCFH)

AGENCY: U.S. Codex Office, USDA.

ACTION: Notice of public meeting and request for comments.

SUMMARY: The U.S Codex Office is sponsoring a public meeting on October 9, 2018. The objective of the public meeting is to provide information and receive public comments on agenda items and draft United States (U.S.) positions to be discussed at the 50th session of the Codex Committee on Food Hygiene (CCFH) of the Codex Alimentarius Commission in Panama City, Panama on November 12—16, 2018. The U.S. Manager for Codex Alimentarius and the Under Secretary, Office of Trade and Foreign Agricultural Affairs, recognize the importance of providing interested parties the opportunity to obtain background information on the 50th Session of the CCFH and to address items on the agenda.

DATES: The public meeting is scheduled for Tuesday, October 9, 2018 from 1:00 p.m. to 4 p.m.

ADDRESSES: The public meeting will take place at the United States Department of Agriculture (USDA), Jamie L. Whitten Building, 1400 Independence Avenue SW, Room 107-A, Washington, DC 20250. Documents related to the 50th Session of the CCFH will be accessible via the internet at the following address: http://www.codexalimentarius.org/meetings-reports/en.

Jenny Scott, U.S. Delegate to the 50th Session of the CCFH, invites U.S. interested parties to submit their comments electronically to the following email address: Jenny.Scott@fda.hhs.gov.

Call-In-Number: If you wish to participate in the public meeting for the 50th Session of the CCFH by conference call, please use the call-in-number listed below:

Call-In-Number: 1-888-844-9904.

The participant code will be posted on the web page below: http://www.fsis.usda.gov/wps/portal/fsis/topics/international-affairs/us-codex-alimentarius/public-meetings.

FOR FURTHER INFORMATION CONTACT:

About the 50th Session Of The CCFH: Jenny Scott, Senior Advisor, Office of Food Safety, Center for Food Safety and Applied Nutrition, U.S. Food and Drug Administration, 5001 Campus Drive HFS-300, Room 3B-014. College Park, MD 20740-3835 Phone: +1 (240) 402-2166. Fax: +1 (301) 436-2632. Email: Jenny.Scott@fda.hhs.gov.

About the Public Meeting: Barbara McNiff, U.S. Codex Office, 1400 Independence Avenue SW, Room 4861, South Agriculture Building, Washington, DC 20250 Phone: (202) 690-4719, Fax: (202) 720-3157, Email: Barbara.McNiff@osec.usda.gov.

SUPPLEMENTARY INFORMATION:

Registration

Attendees may register to attend the public meeting by emailing Barbara.McNiff@osec.useda.gov by October 3, 2018. Early registration is encouraged because it will expedite entry into the building. The meeting will take place in a Federal building. Attendees should bring photo identification and plan for adequate time to pass through the security screening systems. Attendees who are not able to attend the meeting in person, but who wish to participate, may do so by phone, as discussed above.

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The CCFH is responsible for:

• Developing basic provisions on food hygiene, applicable to all food or to specific food types;

• Considering and amending or endorsing provisions on food hygiene contained in Codex commodity standards and codes of practice developed by Codex commodity committees;

• Considering specific food hygiene problems assigned to it by the Commission;

• Suggesting and prioritizing areas where there is a need for microbiological risk assessment at the international level and developing questions to be addressed by the risk assessors; and

• Considering microbiological risk management matters in relation to food hygiene and in relation to the FAO/WHO risk assessments.

The CCFH is hosted by the United States. The 50th Session will be co-hosted by Panama and will convene in Panama City.

Issues To Be Discussed at the Public Meeting

The following items on the Agenda for the 50th Session of the CCFH will be discussed during the public meeting:

• Matters referred by the Codex Alimentarius Commission and its subsidiary bodies to the Food Hygiene

• Matters arising from the Work of FAO and WHO, including the Joint Expert Meeting on Microbiological Risk Assessment (JEMRA)

• Information from the World Organization for Animal Health (OIE)

• Proposed draft revision of the General Principles of Food Hygiene (CXC 1-1969) and its HACCP Annex

○ Comments in reply to CL 2018/69-FH

• Revision to the Code of Practice for Fish and Fishery Products (CXC 52-2003): Placement for the guidance on histamine control; amendments to other sections, and revisions to the section on sampling, examination and analyses related to histamine food safety

○ Comments in reply to CL 2018/70-FH

• Proposed draft code of practice on food allergen management for food business operators

○ Comments in reply to CL 2018/71-FH

• Proposed draft guidance for the management of (micro) biological foodborne crises/outbreaks

○ Comments in reply to CL 2018/72-FH

• Discussion paper on future on work on Shiga toxin-producing Escherichia coli (STEC)

• Other business and Future Work

○ Proposals in reply to CL 2018/35-FH)

Each issue listed will be fully described in documents distributed, or to be distributed by the Secretariat before the Committee meeting. Members of the public may access or request copies of these documents (see ADDRESSES).

Public Meeting

At the October 9 public meeting, draft U.S. positions on the agenda items will be described and discussed, and attendees will have the opportunity to pose questions and offer comments. Written comments may be offered at the meeting or sent to Jenny Scott, U.S. Delegate for the 50th Session of the CCFH (see ADDRESSES). Written comments should state that they relate to activities of the 50th Session of the CCFH.

Additional Public Notification

Public awareness of all segments of rulemaking and policy development is important. Consequently, the U.S. Codex Office will announce this Federal Register publication on-line through the FSIS web page located at: http://www.fsis.usda.gov/federal-register. The U.S. Codex Office also offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on September 15th, 2018.
Mary Lowe,
U.S. Manager for Codex Alimentarius.

[FR Doc. 2018-20442 Filed 9-19-18; 8:45 am]

BILLING CODE P